DEPARTMENT OF COMMERCE

National Oceanic and Atmospheric Administration

RIN 0648-XA179

Endangered Species; File Nos. 18069 and 14726

AGENCY: National Marine Fisheries Service (NMFS), National Oceanic and Atmospheric Administration (NOAA), Commerce.

ACTION: Notice; issuance of permit and permit modification.

SUMMARY: Notice is hereby given that Jeffrey Schmid, Ph.D., Conservancy of Southwest Florida, 1450 Merrihue Drive, Naples, FL 34102 and Blair Witherington, Ph.D., Disney's Animal Kingdom, Animal Programs Administration, P.O. Box 10,000, Lake Buena Vista, FL 32830, have been issued a permit [No. 18069] and a permit modification [No. 14726-02], respectively, to take Kemp's ridley (Lepidochelys kempii), loggerhead (Caretta caretta), green (Chelonia mydas), hawksbill (Eretmochelys imbricata), and leatherback (Dermochelys coriacea) sea turtles for purposes of scientific research.

ADDRESSES: The permits and related documents are available for review upon written request or by appointment in the following office:

Permits and Conservation Division, Office of Protected Resources, NMFS, 1315 East-West Highway, Room 13705, Silver Spring, MD 20910; phone (301) 427-8401; fax (301) 713-0376.

FOR FURTHER INFORMATION CONTACT: Amy Hapeman or Rosa L. González, (301) 427-8401.

SUPPLEMENTARY INFORMATION: On July 1, 2013 and September 18, 2013, notices were published in the Federal Register (78 FR 39258 and 78 FR 57353) that a request for a scientific research permit and a modification of Permit No. 14726-01, respectively, to take sea turtles had been submitted by the above-named individuals. The requested permit and permit modification have been issued under the authority of the Endangered Species Act of 1973, as amended (ESA; 16 U.S.C. 1531 et seq.) and the regulations governing the taking, importing, and exporting of endangered and threatened species (50 CFR parts 222-226).

Permit No. 18069 authorizes researchers to capture green, loggerhead, Kemp's ridley, and hawksbill sea turtles by encircle or strike net to assess the species' composition, relative abundance, size-class distribution, genetic structure, trophic status, health, seasonality, habitat use, and migrations of marine turtles inhabiting the coastal waters of Charlotte Harbor and the Ten Thousand Islands in southwest Florida. Sea turtles may have the following procedures performed before release: measure; photograph/video; flipper and passive integrated transponder tag; weigh; skin, scute and blood sample; and/or attach one to two transmitters to the carapace. A subset of animals may be transported and held in the lab for 48 hours for fecal sampling prior to release. The permit is valid for 5 years from the date of issuance.

Permit No. 14726-01 authorizes the permit holder to locate and describe areas of the Atlantic Ocean and Gulf of Mexico near Florida that serve as developmental habitat for pelagic-stage juvenile and neonate loggerhead, green, Kemp's ridley, hawksbill, and leatherback sea turtles, to quantify threats to pelagic sea turtles, and to gather information on their life-history, genetics, movements, behavior, and diet. Researchers are authorized to capture by dip net, flipper and passive integrated transponder tag, measure, weigh, and oral swab sea turtles. A subset of animals may be skin biopsied, fecal sampled, lavaged or have a satellite tag attached. The permit modification (No. 02) 1) expands the action area in the Gulf of Mexico; 2) authorizes another satellite tag attachment method, scute sampling, and blood sampling; and 3) increases the take numbers and life stages of animals that may be harassed or biologically sampled and satellite tagged. The permit is valid through September 15, 2015.

Issuance of these permits, as required by the ESA, was based on a finding that each permit (1) was applied for in good faith, (2) will not operate to the disadvantage of such endangered or threatened species, and (3) is consistent with the purposes and policies set forth in section 2 of the ESA.

Dated: July 15, 2014.
Julia Harrison,
Chief, Permits and Conservation Division, Office of Protected Resources, National Marine Fisheries Service.

[FR Doc. 2014-16943 Filed 7-17-14; 8:45 am]

BILLING CODE 3510-22-P